ENVIRONMENTAL PROTECTION AGENCY

[FRL-9830-4; EPA-HQ-OEI-2012-0952]

Notification of Deletion of System of Records: Kid's Club Membership List (EPA-57)

AGENCY: Environmental Protection Agency (EPA).

ACTION: Notice.

SUMMARY: The Environmental Protection Agency is deleting the system of records for the Kids Club Membership List (EPA-57) published in the Federal Register on March 2, 2006, from its inventory of Privacy Act systems. The system is no longer active and the Web site has been taken down.

DATES: This notice is effective immediately upon publication in the Federal Register.

FOR FURTHER INFORMATION CONTACT: Megan Gavin, (312) 353-5282.

SUPPLEMENTARY INFORMATION:

General Information

The Kid's Club Membership List (EPA-57) contains non-sensitive personally identifiable information (PII) provided by children in grades K-4 and their parents. The system was created to promote environmental stewardship among children. Participants received certificates, membership cards and stickers for joining the club. Completed projects were posted on the Internet. The Office of Public Affairs deactivated the system and the Web site has been taken down.

How can I get copies of this document and other related information?

EPA has established a docket for this action under Docket ID No. EPA-HQ-OEI-2012-0952. Copies of the docket materials are available at www.regulations.gov or in hard copy at the EPA Docket Center (EPA/DC), EPA West, Room 3334, 1301 Constitution Ave. NW., Washington, DC. The EPA Docket Center Public Reading Room is open from 8:30 a.m. to 4:30 p.m., Monday through Friday, excluding legal holidays. The telephone number for the Public Reading Room is (202) 566-1744. The telephone number for the OEI Docket Center is (202) 566-1752.

How can I get electronic access to this document?

You may access this Federal Register document electronically under the “Federal Register” listings at www.regulations.gov.

Dated: June 20, 2013.
Malcolm D. Jackson,
Assistant Administrator and Chief Information Officer.

[FR Doc. 2013-16069 Filed 7-2-13; 8:45 am]

BILLING CODE 6560-50-P